DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Sunshine in the Government Act of 1976 (5 U.S.C. 552b, as amended) and 41 Code of Federal Regulations (CFR) 102-3.140 through 160, the Department of the Army announces the following committee meeting:

Name of Committee: Army Science Board (ASB).

Date(s) of Meeting: April 23-24, 2007.

Time(s) of Meeting: 0800-1700, April 23, 2007. 0800-1700, April 24, 2007.

Place of Meeting: Photonics Center at Boston University, Boston, MA.

FOR FURTHER INFORMATION CONTACT: For information on Counter Asymmetric Threat, please contact Kathy Moses at (865) 574-8898 or e-mail: mosesk@ornl.gov, for further information on Options for an Affordable LandWarNet, please contact MAJ Fritz McNair at (703) 604-7108 or e-mail: fritzgerald.mcnair@hqda.army.mil, and for Homeland Security/Defense, contact Joe Foreman at (703) 602-8112 or e-mail: Joe.Foreman@us.army.mil or for further information, please contact Wayne Joyner (703) 604-7490 or e-mail: wayne.joyner@saalt.army.mil.

SUPPLEMENTARY INFORMATION: Proposed Agenda: The agenda for the Army Science Board (ASB) will include speakers, subject matter experts and current members and/or consultants who will brief on both specific information to a study and valuable information for the board as a whole. Our three studies, Counter Asymmetric Threat (CAT), Options for an Affordable LandWarNet (LandNet) and Homeland Security/Defense (HLS) will also be meeting to continue their research into specific study topics that each study finds necessary. The ASB will continue to identify findings and recommendations to be presented at our two week outbrief in July.

The meeting will begin at 8 a.m. and end at 5 p.m. each day.

Due to scheduling difficulties the U.S. Army Science Board was unable to finalize its agenda in time to publish notice of its meeting in the Federal Register for the 15-calendar days required by 41 CFR 102-3.150(a). Accordingly, the Committee Management Officer for the Department of Defense, pursuant to 41 CFR 102-3.150(b), waives the 15-calendar day notification requirement.

Brenda S. Bowen,
Army Federal Register Liaison Officer.

[FR Doc. 07-2023 Filed 4-19-07; 11:18 am]

BILLING CODE 3710-08-M